FEDERAL MARITIME COMMISSION

[Petition No. P10-03]

Petition of National Customs Brokers and Forwarders Association of America, Inc. for Rulemaking; Notice of Filing

Notice is hereby given that National Customs Brokers and Forwarders Association of America, Inc. (“NCBFAA”) (“Petitioner”) has petitioned for the issuance of a rulemaking pursuant to 46 CFR 502.51. The NCBFAA seeks a rulemaking that would amend the financial responsibility requirements of regulations set forth in 46 CFR 515.21 et seq. The purpose of the proposed rule would be to provide a mechanism by which licensed non-vessel operating common carriers (“NVOCCs”) would be able on a voluntary basis to amend their existing bonds, filed pursuant to section 19 of the Shipping Act, 46 U.S.C. app. § 1718, and 46 CFR 515.21, as an alternative to making cash deposits in banks located in the People's Republic of China (“PRC”) as otherwise required by the PRC's new Regulations on International Maritime Transportation (“RIMT”) and the Implementing Rules promulgated thereunder. The NCBFAA believes that the proposed rulemaking would be an appropriate way of implementing recently negotiated provisions of the Agreement on Maritime Transport (the “AMT”) and Memorandum on Consultations (“Memorandum”) between the U.S. and PRC governments, both of which were signed on December 8, 2003.

Specifically, the NCBFAA proposes that the FMC allow NVOCCs to amend their existing bonds by adding a Rider, which would comply with the RIMT requirement that all NVOCCs operating in the U.S.-PRC trades provide evidence of financial responsibility in the total amount of RMB 800,000 (or approximately U.S. $96,000). NCBFAA asserts that the Rider is necessary because the Commission's regulations generally only require a bond in the amount of U.S. $75,000 (not including an additional $10,000 for branch offices) for licensed NVOCCs. They believe that the proposed regulation would therefore be in accordance with the Memorandum because it would authorize licensed NVOCCs to add a Rider to existing bonds that would (1) increase the base amount of the bond by U.S. $21,000 and (2) provide that the bond would also be available for the payment of fines or reparation awards that might be imposed by the Chinese authorities due to the NVOCC's violation of the RIMT.

In order for the Commission to make a thorough evaluation of the Petition, interested persons are requested to submit views or arguments in reply to the petition no later than January 12, 2004. Replies shall consist of an original and 15 copies, be directed to the Secretary, Federal Maritime Commission, 800 North Capitol Street, NW., Washington, DC 20573-0001, and be served on Petitioner's counsel Edward D. Greenberg, Esq., Galland, Kharasch, Greenberg, Fellman & Swirsky, P.C., Attorneys At Law, Canal Square, 1054 Thirty-First Street, NW., Washington, DC 20007-4492. It is also requested that a copy of the reply be submitted in electronic form (WordPerfect, Word or ASCII) on diskette or emailed to Secretary@fmc.gov. The Petition will be posted on the Commission's homepage at http://www.fmc.gov/Docket%20Log/Docket%20Log%20Index.htm. All replies filed in response to the Petition will also be posted on the Commission's homepage at this location.

Interested parties may also make oral presentations in this proceeding. At the discretion of individual Commissioners, interested persons may request one-on-one meetings at which they may make presentations describing their views on the petition. Any meeting or meetings shall be completed before the close of the comment period. A summary or transcript of each oral presentation will be included in the record and must be submitted to the Secretary of the Commission within 5 days of the meeting. Persons wishing to make oral presentations should contact the Office of the Secretary to secure contact names and numbers for individual Commissioners.

Copies of the Petition also may be obtained by sending a request to the Office of the Secretary, Room 1046, or by calling (202) 523-5725. Parties participating in this proceeding may elect to receive service of the Commission's issuances in this proceeding through email in lieu of service by U.S. mail. A party opting for electronic service shall advise the Office of the Secretary in writing and provide an e-mail address where service can be made. Such request should be directed to secretary@fmc.gov.

Bryant L. VanBrakle,
Secretary.

[FR Doc. 03-31888 Filed 12-24-03; 8:45 am]

BILLING CODE 6730-01-P